DEPARTMENT OF TRANSPORTATION

Pipeline and Hazardous Materials Safety Administration

[Docket No. PHMSA-2008-0257]

Pipeline Safety: Request for Special Permit and Availability of Draft Environmental Assessment

AGENCY: Pipeline and Hazardous Materials Safety Administration (PHMSA); DOT.

ACTION: Notice; Additional Comment Period on Texas Eastern Transmission Company's Request for a Special Permit; Availability of Draft Environmental Assessment.

SUMMARY: PHMSA is providing an additional public comment period regarding a special permit request from Texas Eastern Transmission, L.P., for relief from 49 CFR 192.112 and 192.620. PHMSA had previously provided notice of its intent to consider the special permit request and an opportunity for public comment on April 23, 2009 (74 FR 4296). PHMSA is also providing notice of the availability of a Draft Environmental Assessment prepared in relation to this request for a special permit. Also, since the April 23, 2009 Federal Register notice, Texas Eastern Transmission, L.P., has modified its special permit request to reduce the length of its pipeline that would be subject to the request. The request and all pertinent information are available at http://www.Regulations.gov in Docket No. PHMSA-2008-0257. We invite the public and all concerned to review these documents and provide comments.

DATES: Submit any comments regarding this special permit modification request and Draft Environmental Assessment by October 4, 2010.

ADDRESSES: Comments should reference the docket number for this special permit and may be submitted in the following ways:

• E-Gov Web Site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue, SE., Washington, DC 20590.

• Hand Delivery: DOT Docket Management System; U.S. Department of Transportation, Docket Operations, M-30, West Building Ground Floor, Room W12-140, 1200 New Jersey Avenue, SE., Washington, DC 20590 between 9 a.m. and 5 p.m., Monday through Friday, except Federal holidays.

Instructions: Identify the docket number, PHMSA-2008-0257, at the beginning of your comments. If you submit your comments by mail, please submit two copies. To receive confirmation that PHMSA has received your comments, include a self-addressed stamped postcard. Internet users may submit comments at http://www.regulations.gov. Note: Comments are posted without changes or edits to http://www.regulations.gov, including any personal information provided.

Privacy Act Statement: Anyone can search the electronic form of comments received in response to any of our dockets by the name of the individual submitting the comment (or signing the comment, if submitted on behalf of an association, business, labor union, etc.). DOT's complete Privacy Act Statement was published in the Federal Register on April 11, 2000.

(65 FR 19477).

FOR FURTHER INFORMATION CONTACT: General: Kay McIver by telephone at (202) 366-0113; or, e-mail at kay.mciver@dot.gov.

Technical: Vincent Holohan by telephone at (202) 366-1933; or, e-mail at Vincent.Holohan@dot.gov.

SUPPLEMENTARY INFORMATION: PHMSA is reopening the comment period for 15 days from date of publication to allow for public review of documents recently added to the docket.

Authority: 49 U.S.C. 60118(c)(1) and 49 CFR 1.53.

Issued in Washington, DC on September 13, 2010.
Jeffrey D. Wiese,
Associate Administrator for Pipeline Safety.

[FR Doc. 2010-23287 Filed 9-16-10; 8:45 am]

BILLING CODE 4910-60-P